DEPARTMENT OF THE INTERIOR

Bureau of Land Management

[NV-040-05-1020PH]

Notice of Public Meetings: Mojave-Southern Great Basin Resource Advisory Council

AGENCY: Bureau of Land Management, Interior.

ACTION: Notice of 2005 Meetings, Locations, and Times for the Mojave-Southern Great Basin Resource Advisory Council (Nevada).

SUMMARY: In accordance with the Federal Land Policy and Management Act and the Federal Advisory Committee Act of 1972 (FACA), the Department of the Interior, Bureau of Land Management (BLM) Mojave-Southern Great Basin Resource Advisory Council meetings will be held as indicated below. Topics for discussion at each meeting will include, but are not limited to: January 20-21, 2005 (Las Vegas, Nevada)—Ely Resource Management Plan and Environmental Impact Statement, Las Vegas Valley Disposal Boundary Environmental Impact Statement, and Southern Nevada Public Land Management Act; April 14-15, 2005 (Caliente, Nevada)—Elk Management, Renewable Energy Sources, and Ely Resource Management Plan and Environmental Impact Statement; June 16, 2005 (Ely, Nevada)—Sagebrush Ecosystem Management; and August 11-12, 2005 (Tonopah, Nevada)—Fire Plan update, and Wildland/Urban Interface Fire Projects. Manager's reports of field office activities will be given at each meeting. The council may raise other topics at any of the four planned meetings.

Dates & Times: The Mojave-Southern Great Basin Resource Council will meet four times in 2005: on January 20-21 (Thursday & Friday), at the Red Rock Canyon National Conservation Area visitor's center, 1000 Scenic Drive, Las Vegas, Nevada; on April 14-15 (Thursday & Friday), at the BLM-Caliente Field Station conference room, 1400 South Front Street, Building Number One, Caliente, Nevada; on June 16 (Thursday), at the BLM-Ely Field Office conference room, 702 North Industrial Way, Ely, Nevada; and August 11-12 (Thursday & Friday), at the BLM-Tonopah Field Station conference room,1553 South Main Street, Tonopah, Nevada. All meetings and field trips are open to the public. Each meeting will last from 8 a.m. to 4 p.m., plus, a general public comment period, where the public may submit oral or written comments to the RAC, will be at 11 a.m. on the second day of each meeting, unless otherwise listed in each specific, final meeting agenda.

Final detailed agendas, with any additions/corrections to agenda topics, locations, field trips and meeting times, will be available on the internet at least 10 working days before each meeting, at http://www.nv.blm.gov/rac; hard copies can also be mailed or sent via fax. Individuals who need special assistance such as sign language interpretation or other reasonable accommodations, or who wish a hard copy of each agenda, should contact Chris Hanefeld, BLM Ely Field Office, HC33 Box 33500 (702 N. Industrial Way), Ely, NV 89301, telephone (775) 289-1842 no later than 10 days prior to each meeting.

FOR FURTHER INFORMATION CONTACT: Chris Hanefeld, Public Affairs Specialist, BLM Ely Field Office, HC33 Box 33500 (702 N. Industrial Way), Ely, NV 89301. Telephone: (775) 289-1842. E-mail: chanefel@nv.blm.gov.

SUPPLEMENTARY INFORMATION: The 15-member Council advises the Secretary of the Interior, through the Bureau of Land Management (BLM), on a variety of planning and management issues associated with public land management in Nevada. All meetings are open to the public. The public may present written comments to the Mojave-Southern Great Basin Resource Advisory Council.

Dated: November 18, 2004.
Gene A. Kolkman,
BLM Ely Field Manager.

[FR Doc. 04-26187 Filed 11-24-04; 8:45 am]

BILLING CODE 4310-HC-P